FEDERAL TRADE COMMISSION

Agency Information Collection Activities; Proposed Collection; Comment Request; Extension

AGENCY: Federal Trade Commission (“Commission” or “FTC”).

ACTION: Notice.

SUMMARY: The information collection requirements described below will be submitted to the Office of Management and Budget (“OMB”) for review, as required by the Paperwork Reduction Act (“PRA”). The FTC seeks public comments on its proposal to extend for an additional three years the current PRA clearance for information collection requirements contained in its Alternative Fuels Rule. That clearance expires on June 30, 2016.

DATES: Comments must be submitted on or before March 11, 2016.

ADDRESSES: Interested parties may file a comment online or on paper, by following the instructions in the Request for Comment part of the SUPPLEMENTARY INFORMATION section below. Write “Paperwork Comment: FTC File No. P134200” on your comment, and file your comment online at https://ftcpublic.commentworks.com/ftc/altfuelspra by following the instructions on the web-based form. If you prefer to file your comment on paper, mail your comment to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor, Suite 5610 (Annex J), Washington, DC 20024.

FOR FURTHER INFORMATION CONTACT: Requests for additional information or copies of the proposed information requirements for the Alternative Fuels Rule should be directed to Hampton Newsome, Attorney, (202) 326-2889, Division of Enforcement, Bureau of Consumer Protection, Federal Trade Commission, 600 Pennsylvania Avenue NW., Washington, DC 20580.

SUPPLEMENTARY INFORMATION: Under the PRA, 44 U.S.C. 3501-3521, federal agencies must obtain approval from OMB for each collection of information they conduct or sponsor. “Collection of information” means agency requests or requirements that members of the public submit reports, keep records, or provide information to a third party. 44 U.S.C. 3502(3), 5 CFR 1320.3(c). As required by section 3506(c)(2)(A) of the PRA, the FTC is providing this opportunity for public comment before requesting that OMB extend the existing PRA clearance for the Alternative Fuels Rule, 16 CFR part 309 (OMB Control Number 3084-0094).

The Rule, which implements the Energy Policy Act of 1992, Public Law 102-486, and as revised by the Commission's 2013 final amendments,¹ requires disclosure of specific information on labels posted on fuel dispensers for non-liquid alternative fuels. To ensure the accuracy of these disclosures, the Rule also requires that sellers maintain records substantiating product-specific disclosures they include on these labels.

¹ 78 FR 23832 (April 23, 2013). The final amendments consolidated the FTC's alternative fueled vehicles (AFV) labels with the then new fuel economy labels required by the EPA thereby eliminating the FTC's separate labeling requirements for used AFV labels.

It is common practice for alternative fuel industry members to determine and monitor fuel ratings in the normal course of their business activities. This is because industry members must know and determine the fuel ratings of their products in order to monitor quality and to decide how to market them. “Burden” for PRA purposes is defined to exclude effort that would be expended regardless of any regulatory requirement. 5 CFR 1320.2(b)(2). Moreover, as originally anticipated when the Rule was promulgated in 1995, many of the information collection requirements and the originally estimated hours were associated with one-time start up tasks of implementing standard systems and processes.

Other factors also limit the burden associated with the Rule. Certification may be a one-time event or require only infrequent revision. Disclosures on electric vehicle fuel dispensing systems may be useable for several years. Nonetheless, there is still some burden associated with posting labels. There also will be some minimal burden associated with new or revised certification of fuel ratings and recordkeeping.

I. Annual Hours Burden

4,190 total burden hours

Certification: Staff estimates that the Rule's fuel rating certification requirements will affect approximately 550 industry members (compressed natural gas producers and distributors and manufacturers of electric vehicle fuel dispensing systems) and consume approximately one hour each per year for a total of 550 hours.

Recordkeeping: Staff estimates that all 13,000 industry members (all non-liquid fuel producers, distributors, and retailers) will be subject to the Rule's recordkeeping requirements (associated with fuel rating certification) and that compliance will require approximately one-tenth hour each per year for a total of 1,300 hours.

Labeling: Staff estimates that labeling requirements will affect approximately nine of every ten industry members (or roughly 11,700 members out of 13,000), but that the number of annually affected members is approximately 2,340 because labels may remain effective for several years (staff assumes that in any given year approximately 20% of 11,700 industry members will need to replace their labels). Staff estimates that industry members require approximately one hour each per year for labeling their fuel dispensers for a total of 2,340 hours.

Thus, estimated total burden for non-liquid alternative fuels is 4,190 hours (550 + 1,300 + 2,340).

II. Labor Costs

$106,145

Labor costs are derived by applying appropriate hourly cost figures to the burden hours described above. According to Bureau of Labor Statistics data for 2014 (most recent available whole-year information),² the average compensation for fuel system operators is $30.37 per hour; and $10.90 per hour for automotive service attendants. These are factored into the FTC's estimates and assumptions below.

² The wage estimates in this Notice are based on mean hourly wages found at http://www.bls.gov/news.release/ocwage.nr0.htm (“Occupational Employment and Wages—May 2014,” U.S. Department of Labor, released March 2015, Table 1 (“National employment and wage data from the Occupational Employment Statistics survey by occupation, May 2014”).

Certification and labeling: Recordkeeping will be performed by fuel system operators, i.e., producers and distributors of fuels. Estimated associated labor costs would be $87,769. [(550 certification hours + 2,340 labeling hours) × $30.37]

Recordkeeping: Only 1/6 of the total recordkeeping hours will be performed by fuel system operators (1/6 of 1,300 hours = approximately 217 hours; 217 hours × $30.37 = $6,590); the other 5/6 is attributable to service station employees (5/6 of 1,300 hours = approximately 1,083 hours; 1,083 hours × $10.90 = $11,805). Thus, the labor cost due to recordkeeping for affected industry is approximately $18,395 ($6,590 for fuel system operators + $11,805 for service station employees).

Associated labor cost: $106,164 ($87,769 for certification and labeling costs + $18,395 for recordkeeping costs).

III. Non-Labor Cost Burden

Staff believes that there are no current start-up costs associated with the Rule, inasmuch as the Rule has been in effect since 1995. Industry members, therefore, have in place the capital equipment and means necessary to determine automotive fuel ratings and comply with the Rule. Industry members, however, incur the cost of procuring fuel dispenser labels to comply with the Rule.

The estimated annual fuel labeling cost, based on estimates of approximately 5,000 fuel dispensers (assumptions: An estimated 20% of 12,500 total fuel retailers need to replace labels in any given year with an approximate five-year life for labels—i.e., 2,500 retailers—multiplied by an average of two dispensers per retailer) at thirty-eight cents for each label (per industry sources), is $1,900 ($0.38 × 5,000).

IV. Request for Comment

You can file a comment online or on paper. For the Commission to consider your comment, we must receive it on or before March 11, 2016. Write “Paperwork Comment: FTC File No. P134200” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment doesn't include any sensitive personal information, like anyone's Social Security number, date of birth, driver's license number or other state identification number or foreign country equivalent, passport number, financial account number, or credit or debit card number. You are also solely responsible for making sure that your comment doesn't include any sensitive health information, like medical records or other individually identifiable health information. In addition, don't include any “[t]rade secret or any commercial or financial information which is . . . privileged or confidential” as provided in Section 6(f) of the FTC Act, 15 U.S.C. 46(f), and FTC Rule 4.10(a)(2), 16 CFR 4.10(a)(2).

If you want the Commission to give your comment confidential treatment, you must file it in paper form, with a request for confidential treatment, and you have to follow the procedure explained in FTC Rule 4.9(c)).³ Your comment will be kept confidential only if the FTC General Counsel grants your request in accordance with the law and the public interest.

³ In particular, the written request for confidential treatment that accompanies the comment must include the factual and legal basis for the request, and must identify the specific portions of the comment to be withheld from the public record. See FTC Rule 4.9(c), CFR 4.9(c), 16 CFR 4.9(c).

Postal mail addressed to the Commission is subject to delay due to heightened security screening. As a result, we encourage you to submit your comments online, or to send them to the Commission by courier or overnight service. To make sure that the Commission considers your online comment, you must file it at https://ftcpublic.commentworks.com/ftc/altfuelspra, by following the instructions on the web-based form. When this Notice appears at http://www.regulations.gov/#!home, you also may file a comment through that Web site.

If you file your comment on paper, write “Paperwork Comment: FTC File No. P134200” on your comment and on the envelope, and mail it to the following address: Federal Trade Commission, Office of the Secretary, 600 Pennsylvania Avenue NW., Suite CC-5610 (Annex J), Washington, DC 20580, or deliver your comment to the following address: Federal Trade Commission, Office of the Secretary, Constitution Center, 400 7th Street SW., 5th Floor, Suite 5610 (Annex J), Washington, DC 20024. If possible, submit your paper comment to the Commission by courier or overnight service.

Visit the Commission Web site at http://www.ftc.gov to read this Notice. The FTC Act and other laws that the Commission administers permit the collection of public comments to consider and use in this proceeding as appropriate. The Commission will consider all timely and responsive public comments that it receives on or before March 11, 2016. For information on the Commission's privacy policy, including routine uses permitted by the Privacy Act, see http://www.ftc.gov/ftc/privacy.htm.

The FTC invites comments on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information.

David C. Shonka,
Acting General Counsel.

[FR Doc. 2016-00244 Filed 1-8-16; 8:45 am]

BILLING CODE 6750-01-P